DEPARTMENT OF STATE

[Public Notice 5688]

60-Day Notice of Proposed Information Collection: Form DS-117, Application to Determine Returning Resident Status, OMB Control Number 1405-0091

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Application to Determine Returning Resident Status.

• OMB Control Number: 1405-0091.

• Type of Request: Extension of a Currently Approved Collection.

• Originating Office: Bureau of Consular Affairs, Department of State (CA/VO).

• Form Number: DS-117.

• Respondents: Aliens applying for special immigrant classification as a returning resident.

• Estimated Number of Respondents: 875 per year.

• Estimated Number of Responses: 875.

• Average Hours Per Response: 30 minutes.

• Total Estimated Burden: 438 hours per year.

• Frequency: Once per respondent.

• Obligation to Respond: Required to Obtain or Retain a Benefit.

DATES: The Department will accept comments from the public up to 60 days from February 9, 2007.

ADDRESSES: You may submit comments by any of the following methods:

• E-mail: VisaRegs@state.gov (Subject line must read DS-117 Reauthorization).

• Mail (paper, disk, or CD-ROM submissions): Chief, Legislation and Regulation Division, Visa Services—DS-1884 Reauthorization, 2401 E. Street, N.W., Washington D.C. 20520-30106.

• Fax: (202) 663-3898

You must include the DS form number (if applicable), information collection title, and OMB control number in any correspondence.

FOR FURTHER INFORMATION CONTACT: Direct requests for additional information regarding the collection listed in this notice, including requests for copies of the proposed information collection and supporting documents, to Lauren Prosnik of the Office of Visa Services, U.S. Department of State, 2401 E. Street, N.W., L-603, Washington, DC 20522, who may be reached at (202) 663-2951 or prosnikla@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection:

Form DS-117 is used by consular officers to determine the eligibility of an alien applicant for special immigrant status as a returning resident.

Methodology:

Information will be collected by mail.

Additional Information:

Dated: January 11, 2007.
Stephen A. Edson,
Deputy Assistant Secretary, Bureau of Consular Affairs, Department of State.

[FR Doc. E7-2192 Filed 2-8-07; 8:45 am]

BILLING CODE 4710-06-P